DEPARTMENT OF COMMERCE

National Oceanic and Atmospheric Administration

Caribbean Fishery Management Council; Public Hearings; Correction

AGENCY: National Marine Fisheries Service (NMFS), National Oceanic and Atmospheric Administration (NOAA), Commerce.

ACTION: Notice of a correction to a public hearing on Amendments to the U.S. Caribbean Reef Fish, Spiny Lobster, and Corals and Reef Associated Plants and Invertebrates Fishery Management Plans: Timing of Accountability Measure-Based Closures.

SUMMARY: The Caribbean Fishery Management Council (CFMC) is considering modifying the timing for the implementation of accountability measure (AM)-based closures in the Caribbean Exclusive Economic Zone (EEZ) and specifying how often to revisit the modification. The Council is considering these management measures in order to ensure AM-based closures successfully achieve their conservation objective and, to the extent practicable, minimize adverse economic impacts to fishers and fishing communities, consistent with National Standard 8 of the Magnuson-Stevens Fishery Conservation and Management Act.

Following are the actions and management alternatives:

The Draft Amendment consists of two actions:

Action 1: Modify the timing for the implementation of AM-based closures in the EEZ;

Alternative 1: No action. Continue AM-based closures resulting from an annual catch limit (ACL) overage beginning on December 31st of the closure year and extending backward into the year for the number of days neccesary to achieve the required reduction in landings.

Preferred Alternative 2: Accountability measure-based closures resulting from an ACL overage will begin on September 30th of the closure year and would extend backward into the year for the number of days necessary to achieve the required reduction in landings. This closure start date would apply to all fishery management units (FMUs) for each of Puerto Rico commercial and recreational sectors, St. Thomas/St. John, St. Croix, and Caribbean-wide. If for any FMU in any year, the number of available days running from September 30th backward to the beginning of the year is not enough to achieve the required reduction in landings, then the additional days needed would be captured by extending the closure forward, beginning on October 1st and continuing for however many days are needed to fulfill the required reduction.

Alternative 3: Accountability measure-based closures resulting from an ACL overage will begin on January 1st of the closure year and extend forward into the year for the number of days necessary to achieve the required reduction in landing. This closure start date would apply to all FMUs for each of Puerto Rico commercial and recreational sectors, St. Thomas/St. John, St. Croix, and Caribbean-wide.

Alternative 4: Establish a fixed fishing closure start date for the implementation of AMs for each FMU by island/island group (A. Puerto Rico, B. St. Thomas/St. John, C. St. Croix, and D. Caribbean-wide). A different start date may be chosen for each FMU on each island/island group. The start date will begin on the last day of the identified month and go backward towards the beginning of the year. If for any FMU in any year, the number of days left in the year is not enough to achieve the required reduction in landings, then those additional days would be captured by extending the closure forward toward the end of the year.

A. Puerto Rico

I. Commercial:

Sub-Alternative 4a. Closure to start the last day of the month that has the highest landings based on the most recent three years of available landings data. (See Table 2.2.1 in the Draft Amendment for the specific date for each FMU [commercial]).

Sub-Alternative 4b. Closure to start the last day of the month with lowest landings based on the most recent three years of available landings data. (See Table 2.2.1 in the Draft Amendment for the specific date for each FMU [commercial]).

II. Recreational:

Sub-Alternative 4c. Closure to start the last day of the month that has the highest landings based on the most recent three years of available landings data. (See Table 2.2.2 in the Draft Amendment for the specific date for each FMU [recreational]).

Sub-Alternative 4d. Closure to start the last day of the month with lowest landings based on the most recent three years of available landings data. (See Table 2.2.2 in the Draft Amendment for the specific date for each FMU [recreational]).

B. St. Thomas/St. John, U.S. Virgin Islands (USVI) (Commercial and Recreational combined)

Sub-Alternative 4e. Closure to start the last day of the month that has the highest landings based on the most recent three years of available landings data. (See Table 2.2.3 in the Draft Amendment for the specific date for each FMU).

Sub-Alternative 4f. Closure to start the last day of the month with lowest landings based on the most recent three years of available landings data. (See Table 2.2.3 in the Draft Amendment for the specific date for each FMU).

C. St. Croix, USVI (Commercial and Recreational combined)

Sub-Alternative 4g. Closure to start the last day of the month that has the highest landings based on the most recent three years of available landings data. (See Table 2.2.4 in the Draft Amendment for the specific date for each FMU).

Sub-Alternative 4h. Closure to start the last day of the month with lowest landings based on the most recent three years of available landings data. (See Table 2.2.4 in the Draft Amendment for the specific date for each FMU).

D. Caribbean-Wide (Commercial and Recreational combined)

Sub-Alternative 4i. Closure to start the last day of the month that has the highest landings based on the most recent three years of available landings data. (See Table 2.2.5 in the Draft Amendment for the specific date for each FMU).

Sub-Alternative 4j. Closure to start the last day of the month with lowest landings based on the most recent three years of available landings data. (See Table 2.2.5 in the Draft Amendment for the specific date for each FMU).

Action 2: Specify a time period for revisiting the approach to establish AM-based closures selected in Action 1.

Alternative 1: No action. Do not specify how often the approach chosen should be revisited.

Preferred Alternative 2: Review the approach selected no longer than 2 years from implementation and every 2 years thereafter.

Alternative 3: Review the approach selected no longer than 5 years from implementation and every 5 years thereafter.

Dates and Addresses: The meetings will be held on the following dates and locations:

In the U.S. Virgin Islands:

November 16, 2015—7 p.m.-10 p.m.—The Buccaneer Hotel, Estate Shoys, Christiansted, St. Croix, USVI.

November 17, 2015—7 p.m.-10 p.m.—Windward Passage Hotel, Charlotte Amalie, St. Thomas, USVI.

In Puerto Rico:

November 23, 2015—7 p.m.-10 p.m.—Doubletree Hotel, De Diego Avenue, Santurce, Puerto Rico.

November 24, 2015—7 p.m.-10 p.m.—Mayaguez Holiday Inn, 2701 Hostos Avenue, Mayagüez, Puerto Rico.

November 25, 2015—2 p.m.-5 p.m.—Holiday Inn Ponce & Tropical Casino, 3315 Ponce By Pass, Ponce, Puerto Rico.

FOR FURTHER INFORMATION CONTACT: Caribbean Fishery Management Council, 270 Muñoz Rivera Avenue, Suite 401, San Juan, Puerto Rico 00918-1903, telephone (787) 766-5926.

SUPPLEMENTARY INFORMATION: This notice is a correction to a meeting notice that published in the Federal Register on October 26, 2015 (80 FR 65215). Due to additional agenda items, the notice is being re-published in its entirety.

Copy of the draft document, “Amendments to the US Caribbean Reef Fish, Spiny Lobster, and Corals and Reef Associated Plants and Invertebrates Fishery Management Plans: Timing of Accountability Measure-Based Closures”, can be found at the CFMC Web page: www.caribbeanfmc.com.

Written comments can be sent to the Council not later than December 10, 2015, by regular mail to the address below, or via email to graciela_cfmc@yahoo.com.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone (787) 766-5926, at least 5 days prior to the meeting date.

Dated: October 28, 2015.
Jeffrey N. Lonergan,
Acting Deputy Director, Office of Sustainable Fisheries, National Marine Fisheries Service.

[FR Doc. 2015-27838 Filed 10-30-15; 8:45 am]

BILLING CODE 3510-22-P